DEPARTMENT OF COMMERCE

National Oceanic and Atmospheric Administration

Proposed Information Collection; Comment Request; Southeast Region IFQ Programs

AGENCY: National Oceanic and Atmospheric Administration (NOAA), Commerce.

ACTION: Notice.

SUMMARY: The Department of Commerce, as part of its continuing effort to reduce paperwork and respondent burden, invites the general public and other federal agencies to take this opportunity to comment on proposed and/or continuing information collections, as required by the Paperwork Reduction Act of 1995.

DATES: Written comments must be submitted on or before August 1, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Anik Clemens, (727) 551-5611 or Anik.Clemens@noaa.gov.

SUPPLEMENTARY INFORMATION:

I. Abstract

This request is for an extension of a currently approved information collection.

The Magnuson-Stevens Fishery Conservation and Management authorizes the Gulf of Mexico Fishery Management Council and South Atlantic Fishery Management Council to prepare and amend fishery management plans for any fishery in waters under their jurisdictions. The National Oceanic and Atmospheric Administration (NOAA), National Marine Fisheries Service (NMFS) manages three individual fishing quota (IFQ)/individual transferable quota (ITQ) programs in the Southeast Region. In 1992, an ITQ program for commercial wreckfish in the South Atlantic Exclusive Economic Zone was implemented through Amendment 5 to the Fishery Management Plan for the Snapper-Grouper Fishery in the South Atlantic Region (South Atlantic Snapper-Grouper FMP). In 2007, a commercial red snapper IFQ program was implemented through Amendment 26 to the Fishery Management Plan for Gulf Reef Fish Resources in the Gulf of Mexico) Gulf Reef Fish FMP). In 2010, a commercial grouper and tilefish IFQ program was implemented through Amendment 29 to the Gulf Reef Fish FMP.

The collection of information addresses IFQ share certificate and allocation debits and transfers, as well as collection of landings information necessary to operate, administer, and review management of commercial red snapper, and grouper/tilefish in the Gulf of Mexico and wreckfish in the South Atlantic.

II. Method of Collection

Information for the Gulf red snapper and grouper/tilefish IFQ programs is collected via a web-based system, and through a 24-hour call hot line, with paper submission an option only in catastrophic circumstances.

The wreckfish share transfer process requires the signatures of witnesses. With only four respondents, it is not cost effective to set up an information technology system to handle this.

III. Data

OMB Control Number: 0648-0551.

Form Number: None.

Type of Review: Regular submission (extension of a currently approved collection).

Affected Public: Business or other for-profit organizations.

Estimated Number of Respondents: 1,644.

Estimated Time per Response: Transfer of Share, Close IFQ Account Form, 2 minutes; Landing Correction Form, 3 minutes; Reef Fish Active Vessels Report, Dealer Landing Transaction Report, Notification of Landing, Transfer of Allocation, Reef fish Approved Landing Location and Landing Criteria, and Reef Fish Permit Consolidation, 5 minutes; IFQ Online Account Renewal Application, 10 minutes; Wreckfish Share Transfer, Quarterly Dealer Report with Cost Recovery Fees, 15 minutes.

Estimated Total Annual Burden Hours: 2,303.

Estimated Total Annual Cost to Public: $980,524.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 27, 2014.
Gwellnar Banks,
Management Analyst, Office of the Chief Information Officer.

[FR Doc. 2014-12591 Filed 5-30-14; 8:45 am]

BILLING CODE 3510-22-P